DEPARTMENT OF THE INTERIOR

U.S. Geological Survey

Federal Interagency Steering Committee on Multimedia Environmental Modeling

AGENCY: U.S. Geological Survey (USGS), Department of the Interior (DOI).

ACTION: Notice of open meeting.

SUMMARY: The annual public meeting of the Federal Interagency Steering Committee on Multimedia Environmental Modeling (ISCMEM) will convene to discuss some of the latest developments in environmental modeling applications, tools and frameworks, as well as new operational initiatives for FY 2010 among the participating agencies.

Dates of Meeting: October 13-15, 2009.

Place: Two White Flint North (TWFN) Auditorium, Nuclear Regulatory Commission, 11545 Rockville Pike, Rockville, MD 20852.

Time: 9 a.m. to 5:30 p.m.

FOR FURTHER INFORMATION CONTACT: Pierre D. Glynn, ISCMEM Chair, U.S. Geological Survey, National Research Program, Branch of Regional Research, Eastern Region, 12201 Sunrise Valley Drive, Mail Stop 432, Reston, VA 20192. TEL 703-648-5823. FAX 703-648-5857. pglynn@usgs.gov.

SUPPLEMENTARY INFORMATION: Background: Nine Federal agencies have been cooperating under a Memorandum of Understanding (MOU) on the research and development of multimedia environmental models. The MOU, which was revised in 2006, continues an effort that began in 2001. It establishes a framework for facilitating cooperation and coordination among the following agencies (the specific research organization within the agency is in parenthesis): National Science Foundation; U.S. Army Corps of Engineers (Engineer Research and Development Center); U.S. Department of Agriculture (Natural Resources Conservation Service); U.S. Department of Energy (Office of Biological and Environmental Research); U.S. Environmental Protection Agency; U.S. Geological Survey; U.S. National Oceanographic and Atmosphere Administration; U.S. Nuclear Regulatory Commission (Office of Nuclear Regulatory Research); and U.S. Bureau of Reclamation. These agencies are cooperating and coordinating in the research and development (R&D) of multimedia environmental models, software and related databases, including development, enhancements, applications and assessments of site specific, generic, and process-oriented multimedia environmental models as they pertain to human and environmental health risk assessment. Multimedia model development and simulation supports interagency interests in risk assessment, uncertainty analyses, water supply issues and contaminant transport.

Purpose of the Public Meeting: The annual public meeting and workshop provides an opportunity for the scientific community, other Federal and State agencies, and the public to be briefed on ISCMEM activities and their initiatives for the upcoming year, and to discuss technological advancements in multimedia environmental modeling.

Proposed Agenda: The ISCMEM Chair will open the meeting with a brief overview of the goals of the MOU and an update on current activities of ISCMEM. This introduction will be followed by a series of invited presentations starting on Tuesday morning, Oct 13, and ending on Thursday afternoon, Oct 15. A detailed agenda with presentation titles and speakers will be posted on the MOU public Web site: http://www.environmental-modeling.org. The topics covered will include: Environmental modeling frameworks, databases and cyberinfrastructure, community modeling efforts, parameter estimation, uncertainty and sensitivity analyses, optimization modeling, reactive transport modeling, watershed and distributed water quality modeling, modeling of ecosystem services and ecosystem functions.

Meeting Access: The auditorium of the U.S. Nuclear Regulatory Commission Headquarters building at 11545 Rockville Pike, Rockville, MD is across the street from the White Flint Metro stop. The most convenient transportation to the meeting venue is via Metro since there is extremely limited on-street parking. Please take Metro to the White Flint Metro stop on the Red Line. To obtain access to the auditorium, all visitors must register with NRC security and have a valid photo-identification card.

Map location for White Flint METRO Stop adjacent to NRC Headquarters is: http://www.wmata.com/rail/maps/map.cfm#.

Pierre D. Glynn,
Chair, Federal Interagency Steering Committee on Multimedia Environmental Modeling.

[FR Doc. E9-21032 Filed 8-31-09; 8:45 am]

BILLING CODE 4311-AM-P